ENVIRONMENTAL PROTECTION AGENCY

[OPP-00748; FRL-6809-9]

Association of American Pesticide Control Officials/State FIFRA Issues Research and Evaluation Group

AGENCY: Environmental Protection Agency (EPA).

ACTION: Notice.

SUMMARY: The Association of American Pesticide Control Officials (AAPCO)/State FIFRA Issues Research and Evaluation Group (SFIREG) will hold a 2-day meeting, beginning on December 3, 2001, and ending December 4, 2001. This notice announces the location and times for the meeting and sets forth the tentative agenda topics.

DATES: The meeting will be held on Monday, December 3, 2001, from 8:30 a.m. to 5 p.m. and Tuesday, December 4, 2001, from 8:30 a.m. to noon.

ADDRESSES: This meeting will be held at the Double Tree Hotel, 300 Army Navy Drive, Arlington, Crystal City, VA.

FOR FURTHER INFORMATION CONTACT: Philip H. Gray, SFIREG Executive Secretary, P.O. Box 1249, Hardwick, VT 05843-1249; telephone number: (802) 472-6956; fax (802) 472-6957; e-mail address: aapco@plainfield.bypass.com.

Georgia A. McDuffie, Field and External Affairs Division (7506C), Office of Pesticide Programs, Environmental Protection Agency, 1200 Pennsylvania Ave., NW., Washington, DC 20460; telephone number: (703) 605-0195; fax number: (703) 308-1850; e-mail address: mcduffie.georgia@epa.gov.

SUPPLEMENTARY INFORMATION:

I. General Information

A. Does this Action Apply to Me?

This action is directed to the public in general. This action may, however, be of interest to all parties interested in SFIREG's information exchange relationship with EPA regarding important issues related to human health, environmental exposure to pesticides, and insight into EPA's decision-making process are invited and encouraged to attend the meetings and participate as appropriate. Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

2. In person. The Agency has established an official record for this action under docket control number OPP-00748. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

II. Tentative Agenda

The tentative agenda items identified by the AAPCO and SFIREG follows:

1. E-labels.

2. State and Federal pesticides Agency's activities - post September 11th terrorists attacks.

3. Status of the water quality registration review team.

4. Other OPP water quality activities.

5. Issues from water quality PREP course.

6. Committee reports and introduction of issue papers.

7. Update on current OPP activities.

8. SFIREG issue paper status reports.

9. Update on current OECA activities.

10. Regional reports.

11. Other topics, as appropriate.

List of Subjects

Environmental protection.

Dated: October 25, 2001.
Jay S. Ellenberger,
Acting Director, Field and External Affairs Division, Office of Pesticide Programs.

[FR Doc. 01-27597 Filed 11-1-01; 8:45 am]

BILLING CODE 6560-50-S